DEPARTMENT OF ENERGY

Notice of Request for Information (RFI) Regarding Grant Program To Facilitate the Siting of Interstate Electricity Transmission Lines

AGENCY: Grid Deployment Office, Department of Energy.

ACTION: Request for information.

SUMMARY: The Department of Energy (DOE) Grid Deployment Office (GDO) invites public input for its Request for Information (RFI) regarding issues related to the provision of grants to facilitate the siting of interstate and offshore electricity transmission lines, as authorized under the Inflation Reduction Act (IRA). This provision of the IRA authorizes the issuance of grants to siting authorities to facilitate the siting of interstate and offshore electricity transmission lines and to siting authorities and State, local, and Tribal governments to undertake economic development activities for communities impacted by such projects. Information collected from this RFI will be used by DOE for program planning purposes and the potential development of a Funding Opportunity Announcement (FOA).

DATES: Responses to this RFI must be received by no later than 5:00 p.m. EST on February 28, 2023.

ADDRESSES: Interested parties are to submit comments electronically to GDOIRASection50152@hq.doe.gov. RFI can be found at: https://www.energy.gov/gdo/transmission-siting-and-economic-development-grants-program. Include “RFI for Transmission Siting and Economic Development Grants” in the subject line of the email. Responses must be provided as a Microsoft Word (.docx) or PDF attachment to the email, and no more than 15 pages in length, 12-point font, 1-inch margins. It is recommended that attachments with file sizes exceeding 25MB be compressed (i.e., zipped) to ensure message delivery. For ease of replying and to aid categorization of your responses, please copy and paste the RFI questions, including the question numbering, and use them as a template for your response. Respondents may answer as many or as few questions as they wish. Respondents are requested to provide the following information at the start of their response to this RFI:

• Company/institution name.

• Company/institution contact.

• Contact's address, phone number, and email address.

FOR FURTHER INFORMATION CONTACT: Questions may be addressed by email to GDOIRASection50152@hq.doe.gov. Questions about the RFI may be addressed to Jordan Meehan at (202) 586-2006. Further instructions can be found in the RFI document posted at https://www.energy.gov/gdo/transmission-siting-and-economic-development-grants-program.

SUPPLEMENTARY INFORMATION: The purpose of this RFI is to solicit feedback from the public on siting authority and economic development activities that could be supported by grants under section 50152 of the IRA. DOE is also seeking feedback on the overall goals and programmatic objectives that DOE should consider when making grants under this section, including those related to environmental and energy justice, equity, job quality, and tribal cultural resources.

Section 50152 of the IRA authorizes the Secretary of Energy (Secretary) to make grants to siting authorities to carry out certain eligible activities that will facilitate the siting and permitting of certain interstate onshore and offshore electricity transmission lines. Section 50152 also authorizes the Secretary to make grants to siting authorities, or other State, local, or Tribal governmental entities, for economic development activities in communities that may be affected by the construction and operation of these transmission projects. The IRA makes funding for such grants available through September 30, 2029.

To help inform DOE's implementation of section 50152 of the IRA, this RFI seeks input on the following topics related to grants under this section:

A. Eligible Siting Activities With Respect to Covered Projects

B. Economic Development Activities for Affected Communities

C. Equity, Energy, and Environmental Justice

The complete RFI be found at: https://www.energy.gov/gdo/transmission-siting-and-economic-development-grants.

Proprietary and Confidential Information

Because information received in response to this RFI may be used to structure future programs and grants and/or otherwise be made available to the public, respondents are strongly advised NOT to include any information in their responses that might be considered business sensitive, proprietary, or otherwise confidential. If, however, a respondent chooses to submit business sensitive, proprietary, or otherwise confidential information, it must be clearly and conspicuously marked as such in the response. Responses containing confidential, proprietary, or privileged information must be conspicuously marked as described below. Failure to comply with these marking requirements may result in the disclosure of the unmarked information under the Freedom of Information Act or otherwise. The U.S. Federal Government is not liable for the disclosure or use of unmarked information and may use or disclose such information for any purpose.

Confidential Business Information. Pursuant to 10 CFR 1004.11 any person submitting information that he or she believes to be confidential and exempt by law from public disclosure should submit via email two well marked copies: one copy of the document marked “Confidential Commercial and Financial Information” including all the information believed to be confidential, and one copy of the document marked “non-confidential” with the information believed to be confidential deleted. DOE will make its own determination about the confidential status of the information and treat it according to its determination. The copy containing confidential commercial and financial information must include a cover sheet marked as follows: identifying the specific pages containing confidential, proprietary, or privileged information: “Notice of Restriction on Disclosure and Use of Data: Pages [list applicable pages] of this response may contain confidential, commercial, or financial information that is exempt from public disclosure.” The Government may use or disclose any information that is not appropriately marked or otherwise restricted, regardless of source. In addition, (1) the header and footer of every page that contains confidential, proprietary, or privileged information must be marked as follows: “Contains Confidential, Commercial, or Financial Information Exempt from Public Disclosure” and (2) every line and paragraph containing proprietary, privileged, or trade secret information must be clearly marked with [[double brackets]] or highlighting.

Signing Authority

This document of the Department of Energy was signed on January 24, 2023, by Maria D. Robinson, Director of the Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document on publication in the Federal Register.

Signed in Washington, DC, on January 25, 2023.
Treena V. Garrett,
Federal Register Liaison Officer, U.S. Department of Energy.

[FR Doc. 2023-01820 Filed 1-27-23; 8:45 am]

BILLING CODE 6450-01-P